DEPARTMENT OF COMMERCE

Census Bureau

Agency Information Collection Activities; Submission to the Office of Management and Budget (OMB) for Review and Approval; Comment Request; Survey of Income and Program Participation (SIPP)

AGENCY: Census Bureau, Commerce.

ACTION: Notice of information collection, request for comment.

SUMMARY: The Department of Commerce, in accordance with the Paperwork Reduction Act (PRA) of 1995, invites the general public and other Federal agencies to comment on proposed and continuing information collections, which helps us assess the impact of our information collection requirements and minimize the public's reporting burden. The purpose of this notice is to allow for 60 days of public comment on the proposed revision of the Survey of Income and Program Participation (SIPP), prior to the submission of the information collection request (ICR) to OMB for approval.

DATES: To ensure consideration, comments regarding this proposed information collection must be received on or before September 18, 2023.

ADDRESSES: Interested persons are invited to submit written comments by email to census.sipp@census.gov. Please reference SIPP OMB Comments in the subject line of your comments. You may also submit comments, identified by Docket Number USBC-2023-0003, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Hyon B. Shin, Assistant Division Chief, by phone (301-763-6169) or email (census.sipp@census.gov).

SUPPLEMENTARY INFORMATION:

I. Abstract

The U.S. Census Bureau plans to request clearance from the Office of Management and Budget (OMB) for the collection of data concerning the Survey of Income and Program Participation (SIPP). The SIPP is a household-based survey designed as a continuous series of national panels.

The SIPP represents the primary source of information about annual and sub-annual dynamics of income, family and household content, movement into and out of government programs, and interactions of these topics in a single, unified dataset allowing for in-depth, informed analyses. Government domestic policy formulators and evaluators depend heavily upon the information collected in the SIPP in their analyses of the distribution of income received either directly as money or indirectly as in-kind benefits and the effect of tax and transfer programs on that distribution. They also rely on the SIPP data to provide improved and expanded information on the dynamics of income and the general economic and financial situation of the U.S. population, in the context of the household situation, which the SIPP has provided on a continuing basis since 1983. The SIPP has measured levels of economic well-being and permitted measurement of sub-annual and annual changes in these levels over time.

The SIPP is a household-based survey designed as a continuous series of national panels. Each panel features a nationally representative sample of addresses whose household members are interviewed over a multi-year period lasting approximately four years. Starting with the 2019 survey year, the Census Bureau introduced a sample design scenario of overlapping panels where new representative addresses are sampled and added to the workload each year. This means that there will be a new household sample introduced each year whose occupants will be reinterviewed over the subsequent three years, creating the overlapping sample design.

The 2024 SIPP Panel Wave 1 cases will be interviewed about the previous calendar year, 2023, as the reference period, and will proceed with annual interviewing going forward. Calendar year 2024 SIPP will also have returning Wave 4 cases from sample year 2021, returning Wave 3 cases from 2022, and Wave 2 cases from sample year 2023, each being interviewed about their experience during reference year 2023.

The overlapping panel model will provide approximately 20,000 interviewed housing units every year to give the best design for both cross-sectional and longitudinal estimates. We will continue to provide monthly and longitudinal weights where monthly weights will incorporate all the panels in the field at that time and longitudinal weights will depend on individual panels. We estimate that each household contains 2.0 people aged 15 and above, yielding approximately 40,000 person-level interviews per calendar year. Completing the SIPP interview will take approximately 50 minutes per adult on average; consequently, the total annual burden for 2024 SIPP interviews will be 33,330 hours.

The 2024 SIPP will continue to use the same interviewing method as previous SIPP Panels, in which adults (aged 15 years and older) who move from the prior wave household will be followed. Consequently, future waves will incorporate data collected from the prior wave interview brought forward to the current interview as a way to reduce respondent burden and improve data quality.

The Census Bureau also plans to continue to use Computer Audio-Recorded Interview (CARI) technology as part of the SIPP interviewing process. CARI is a tool used during data collection to capture audio along with response data. After an introduction that notifies respondents that the interview may be recorded for quality assurance, a portion of each interview is recorded unobtrusively, and both the sound file and screen images are returned with the response data to Census Headquarters for evaluation. Census staff may review the recorded portions of the interview to improve questionnaire design and for quality assurance purposes.

The SIPP questionnaire uses an Event History Calendar (EHC) that facilitates the collection of dates of events and spells of coverage. The EHC is a tool to assist the respondent's ability to recall events accurately to the beginning of the reference period and provide increased data quality and inter-topic consistency for dates reported by respondents. The EHC is intended to help respondents recall information in a more natural “autobiographical” manner by using events from one topic as triggers to recall additional details and the timing in other topics.

SIPP is seeking clearance to make the following changes:

• Revised questionnaire content—The 2024 SIPP questionnaire removes some latent COVID-19 pandemic content that are no longer relevant. The questionnaire also updates some questions for better clarity and to reduce respondent burden. SIPP is also updating the retirement lump-sum content and medical- and jointly-held-debts section based on cognitive testing. The final set of proposed new and modified content will be included in the full OMB ICR for the 2024 SIPP.

• Reduction in Sample—The SIPP overlapping panels began with the 2018 SIPP. From 2018 through 2022, SIPP sent a list of approximately 53,000 designated housing units to be interviewed in the field each year, including new panel sample cases. Starting in 2023, SIPP reduced that number from 53,000 to approximately 35,000 housing units in the annual sample. The new 2024 panel size is 35,000 housing units minus the total of eligible housing units from earlier panels.

II. Method of Collection

The SIPP uses the Computer-Assisted Personal Interviewing (CAPI) method of data collection. The household interview collects one interview per person per year. Each interview will reference a period that begins with the beginning of the reference period and extends to the interview month of the current year. A field representative will conduct the interview in person with all household members 15 years old or over, using regular proxy-respondent rules. Children under 15 years old have information collected by proxy interviews with the household respondent. In the instances where the residence is not accessible or the respondent makes a request, the field representative will conduct the interview by telephone.

III. Data

OMB Control Number: 0607-1000.

Form Number(s): SIPP CAPI Automated Instrument.

Type of Review: Regular submission. This is a revision of a currently approved collection.

Affected Public: Individuals or households.

Estimated Number of Respondents: 40,000.

Estimated Time per Response: 50 minutes.

Estimated Total Annual Burden Hours: 33,330.

Estimated Total Annual Cost to Public: $0 There are no costs to the respondents other than their time.

Respondent's Obligation: Voluntary.

Legal Authority: Title 13, United States Code, Sections 141 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-15442 Filed 7-19-23; 8:45 am]

BILLING CODE 3510-07-P